DEPARTMENT OF STATE

22 CFR Part 42

[Public Notice 3814]

Visas: Documentation of Immigrants Under the Immigration and Nationality Act—Diversity Visas

AGENCY: Bureau of Consular Affairs, State.

ACTION: Final rule.

SUMMARY: This rule makes final (with minor modification) the Department of State's interim regulations published in the Federal Register on July 31, 2001 (66 FR 39435).The July 31st rule amended the Department's regulations regarding registration for the Diversity Visa (DV) Program. The regulations were amended to clarify the Department's interpretation of the statute with respect to the DV Program and to further enhance the Department's ability to combat fraudulent practices in the DV Program. The rule also amended the regulations as they pertain to the use of the “Dictionary of Occupational Titles” formerly used to determine the required work experience since the document is no longer current. Consular officers must now make determinations regarding work experience based upon the U.S. Department of Labor's O*Net OnLine. [Further information may be found on the Consular Affairs website at http://travel.state.gov.] This rule makes final the Department's interim regulations with slight modification to the photograph requirements.

DATES: Effective date: This rule takes effect on October 26, 2001.

FOR FURTHER INFORMATION CONTACT: Pam Chavez, Office of Legislation and Regulations, Visa Office, by phone (202) 663-1206, or by e-mail at chavezpr@state.gov.

SUPPLEMENTARY INFORMATION:

What Is the Background for This Final Rule?

In an effort to eliminate fraudulent applications in the Diversity Visa (DV) Program, the Department published an interim rule [66 FR 39435], with a request for comments, which amended the regulations at 22 CFR 42.33 regarding registration for the DV Program. The interim rule amended the Department's regulations by requiring that the applicant sign the DV entry in his or her native alphabet as this more naturally fulfills the requirement for a usual and customary signature on the DV entry. The interim regulations also required that, beginning with the DV 2003 registration, the entry must include photographs of the applicant, the applicant's spouse, and all of his or her unmarried children under age 21 years (including natural children as well as legally-adopted children and stepchildren). Photographs for all dependents must be submitted regardless of their nationality. Photographs are required even though the spouse or child no longer resides with the applicant and regardless of whether or not the dependent will accompany or follow to join the applicant in the United States. The name and date of birth of the family member must be printed on the back of his or her photograph. The Department is publishing this final rule to make final the interim regulations.

What Comments Were Received in Response to the Interim Rule?

The Department's interim rule solicited comments regarding the regulatory changes. During the comment period, the Department received only two comments. Both commenters felt that the Department should clarify further the photograph requirement for dependent children. The Department's interim regulation requires that the entry must include photographs of ALL children who are unmarried and under age of 21 years. The word “all” implies any child of the alien, regardless of nationality, and regardless of whether the child resides with the applicant and whether or not the child intends to immigrate to the United States.

In past years, the Diversity Visa Program has been plagued by a high incidence of fraudulent derivatives applying with the principal DV applicant. This causes delays in DV issuances at many posts as much time is spent by consular staff investigating alleged family relationships. For this reason, it was determined that for DV-2003, photos of all unmarried children under age 21 would be required on the DV entry. With this rule, the Department hopes to avoid a complicated range of exceptions to the photo requirement, and the regulations regarding photographs for dependents shall remain as published in the interim rule.

One of the commenters also expressed concern about the size of the photograph, indicating that it may be difficult in some countries to obtain a photograph of the required size. While the Department does not have any reason to believe that applicants will have difficulty obtaining photographs of the required size, for DV 2003, photographs ranging in size from 37 mm x 37 mm to 50 mm x 50 mm will be accepted on the DV entries. Any DV 2003 entry submitted with photos that do not conform to the sizes in this range will be disqualified at the Kentucky Consular Center. The commenter also feels that some of the specifications are redundant. The Department believes that the specifications for acceptable photographs are sufficiently detailed, and although perhaps redundant, are specific as to what meets the Department's needs, and are probably, as the commenter points out, the most common requirements for producing a photograph for any type of official documents. The Department has, therefore, determined that the photograph specifications indicated in the interim rule shall remain as published.

How Will This Final Rule Affect the Regulations in the Interim Rule?

The Department has reviewed the comments submitted during the comment period and has made some modification to the interim rule regarding the photograph size requirements.

List of Subjects in 22 CFR Part 42

Aliens, Documentation, Immigrants, Passports and visas.

In light of the foregoing the Department is amending the interim regulations at 22 CFR 42.33 as follows:

PART 42—[AMENDED]

1. The authority citation for Part 42 continues to read as follows:

Authority: 8 U.S.C. 1104.

2. Amend § 42.33 by revising paragraph (b)(3) introductory text and paragraph (b)(3)(i) to read as follows:

§ 42.33 Diversity immigrants.

* * * * *

(b) * * *

(3) Photographs. The alien shall also affix to the entry a photograph of himself or herself and photographs of his or her spouse and all unmarried children under the age of 21 years. The photographs shall meet the following specifications:

(i) The photograph shall range in size from 37 mm x 37 mm to 50mm x 50mm.

* * * * *

Dated: October 9, 2001.
Mary A. Ryan,
Assistant Secretary for Consular Affairs, U.S. Department of State.

[FR Doc. 01-27013 Filed 10-25-01; 8:45 am]

BILLING CODE 4710-06-P